DEPARTMENT OF ENERGY

Federal Energy Regulatory Commission

[Docket No. AD14-15-000]

Commission Information Collection Activities (FERC-922); Comment Request

AGENCY: Federal Energy Regulatory Commission.

ACTION: Comment request.

SUMMARY: In compliance with the requirements of the Paperwork Reduction Act of 1995, 44 USC 3506(c)(2)(A), the Federal Energy Regulatory Commission (Commission or FERC) Staff is soliciting public comment on a revised, previously approved information collection, FERC-922, Performance Metrics for ISOs, RTOs and Regions Outside ISOs and RTOs.

DATES: Comments on the collection of information are due November 3, 2014.

ADDRESSES: You may submit comments (identified by Docket No. AD14-15-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-922, Performance Metrics for ISOs, RTOs and Regions Outside of ISOs and RTOs.

OMB Control No.: 1902-0262.

Type of Request: Reinstatement and revision of an information collection.

Abstract: The Commission is continuing its efforts to collect performance metric information from ISOs, RTOs, and public utilities in regions outside ISO and RTO regions. This includes the submission of information relating to dispatch reliability, transmission planning, the marginal cost of energy and resource availability. The information submitted by ISOs, RTOs, and participating public utilities in regions outside ISOs and RTOs is used to evaluate reliability and systems operations performance.

Concurrent with the issuance of this notice, Commission Staff is issuing a report establishing 30 common metrics for ISOs/RTOs and utilities. Commission Staff intends to collect information on these common metrics initially covering the period 2008-2012, and at a later time for the 2010-2014 period. The common metrics are attached to this notice. The attachment will not be published in the Federal Register but will be visible as part of this notice in the Commission's eLibrary system.

Type of Respondents: ISOs, RTOs and public utilities.

Estimate of Annual Burden ¹: Commission Staff expects that respondents will submit performance information every two years and that this collection will initially have a three year approval from OMB. For this reason, the annual number of responses is “0.5” in the table below (i.e. the collection will occur twice over the three year approval period).

¹ Burden is defined as the total time, effort, or financial resources expended by persons to generate, maintain, retain, or disclose or provide information to or for a Federal agency. For further explanation of what is included in the information collection burden, see 5 CFR 1320.3 (2012).

FERC-922
| Number of respondents | Annual number of responses per respondent | Total number of responses | Average burden hours & cost per response ² | Total annual burden hours & total annual cost | Cost per respondent per year ($)
| (1) | (2) | (1)*(2)=(3) | (4) | (3)*(4)=(5) | (5)÷(1)
Metrics Data Collection | 11 | 0.5 | 5.5 | 140 $11,228 | 770 $61,754 | $5,614
Write Performance Analysis | 11 | 0.5 | 5.5 | 85 $6,817 | 467.5 $37,493.50 | $3,408.50
Management Review | 11 | 0.5 | 5.5 | 20 $1,694.40 | 110 $9,319.20 | $847.20
TOTAL |  |  |  |  | 1347.50 | $9,869.70
|  |  |  |  | $108,566.70
² The estimates for cost per response are derived using the following formula: Average Burden Hours per Response * $XX per Hour = Average Cost per Response. The hourly cost figure for the metrics data collection and writing the performance analysis is based on the loaded average wage for an analyst, attorney, engineer, and economist ($80.20/hour). The hourly cost figure for the management review is based on the loaded average wage for management ($84.72/hour). Wage and benefits data are from the Bureau of Labor Statistics at http://www.bls.gov/oes/current/naics2_22.htm and http://www.bls.gov/news.release/ecec.nr0.htm.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 26, 2014.
Nathaniel J. Davis, Sr.,
Deputy Secretary.

Attachment

Performance metric | Specific metric(s)
Reliability
A. NERC Reliability Standards Compliance | 1. References to which NERC standards are applicable.
| 2. Number of violations self-reported and made public by NERC/FERC.
| 3. Number of violations identified and made public as NERC audit findings.
| 4. Total number of violations made public by NERC/FERC.
| 5. Severity level of each violation made public by NERC/FERC.
| 6. Compliance with operating reserve standards.
| 7. Unserved energy (or load shedding) caused by violations. Additional detail will be provided on (1) number of events; (2) duration of the events; (3) whether the events occurred during on/off-peak hours; (4) additional information on equipment types affected and kV of lines affected; and (5) number of events (and severity and duration of events) resulting in load shedding based on the utilization of TPL-002 Footnote b criteria.
| Utilities outside ISO and RTO regions should limit reporting to the same eight functional areas used by the ISOs and RTOs:
| 1. Balancing Authority.
| 2. Interchange Authority.
| 3. Planning Authority.
| 4. Reliability Coordinator.
| 5. Resource Planner.
| 6. Transmission Operator.
| 7. Transmission Planner.
| 8. Transmission Service Provider.
B. Dispatch Reliability | 1. Balancing Authority ACE Limit (BAAL) or CPS1 and CPS2.
| 2. Energy Management System (EMS) availability.
C. Load Forecast Accuracy | Actual peak load as a percentage variance from forecasted peak load.
D. Wind Forecasting Accuracy | Actual wind availability compared to forecasted wind availability.
E. Unscheduled Flows | Difference between net actual interchange (actual measured power flow in real time) and the net scheduled interchange in megawatt hours.
| • Reported in FERC Form No. 714.
F. Transmission Outage Coordination | 1. Percentage of ≥ 200 kV planned outages of 5 days or more for which ISO, RTO or utility notified customers at least 1 month prior to the outage commencement date.
| 2. Percentage of ≥ 200 kV outages cancelled by utility after being approved previously.
G. Long-Term Reliability Planning—Transmission | 1. Number of facilities approved for construction due to reliability purposes.
| 2. Percentage of approved construction projects on schedule and completed.
| 3. Performance of planning process related to:
| a. Completion of reliability studies.
| b. Completion of economic studies.
H. Long-Term Reliability Planning—Resources | 1. Processing time for generation interconnection requests.
| 2. Actual reserve margins compared with planned reserve margins.
I. Interconnection and Transmission Process Metrics | 1. Number of requests.
| 2. Number of studies completed.
| 3. Average age of incomplete studies.
| 4. Average time for completed studies.
| 5. Total cost and types of studies completed (e.g., feasibility study, system impact study and facility study).
J. Special Protection Systems | 1. Number of special protection systems.
| 2. Percentage of special protection systems that responded as designed when activated
| • Applicable pool of special protection systems should be based on how the reporting entity's Regional Entity defines “special protection systems.”
| 3. Number of unintended activations.
System Operations Measures
A. System Lambda | System Lambda (on marginal unit)
| • System Lambda metric does not apply to ISOs, RTOs or utilities where the marginal price is set by hydro units.
| • System lambda data will be based on FERC Form No. 714 information.
B. Resource Availability | 1—System forced outage rate as measured over 12 months.
C. Fuel Diversity | Fuel diversity in terms of energy produced and installed capacity.

[FR Doc. 2014-20848 Filed 9-2-14; 8:45 am]

BILLING CODE 6717-01-P